ENVIRONMENTAL PROTECTION AGENCY

[FRL-6709-9]

Agency Information Collection Activities; Submission for OMB Review; Comment Request, Data Generation for Pesticide Re-registration

AGENCY: Environmental Protection Agency (EPA).

ACTION: Notice.

SUMMARY: In compliance with the Paperwork Reduction Act (44 U.S.C. 3501 et seq.), this document announces that the following Information Collection Request (ICR), has been forwarded to the Office of Management and Budget (OMB) for review and approval: Data Generation for Pesticide Re-registration, OMB No. 2070-0107, expiration date May 30, 2000. The ICR describes the nature of the information collection activity and its expected burden and costs; where appropriate, it includes the actual data collection instrument.

DATES: Comments must be submitted on or before July 6, 2000.

FOR FURTHER INFORMATION CONTACT: For a copy of the ICR contact Sandy Farmer at EPA by phone at (202) 260-2740, by E-Mail at Farmer.Sandy@epamail.epa.gov or download off the Internet at http://www.epa.gov/icr and refer to EPA ICR No. 1504.04. For technical questions about the ICR contact Angela Hofmann at (202) 260-2922.

SUPPLEMENTARY INFORMATION: Title: Data Generation for Pesticide Reregistration OMB Control No. 2070-0107, EPA ICR No. 1504.04, expiration date May 30, 2000.

Abstract: Pursuant to section 4 of the Federal Insecticide, Fungicide, and Rodenticide Act (FIFRA), as amended, EPA must assess health and safety data for all pesticide active ingredients originally registered before November 1, 1984, to determine whether such pesticides' use poses unreasonable risks to human health or the environment. In addition, the Federal Food Drug and Cosmetic Act (FFDCA), as amended by the Food Quality Protection Act of 1996 (FQPA), requires the Agency to reassess all existing tolerances (maximum limits for pesticide residues in food or feed) to ensure that they meet the safety standard in FPQA.

Currently, EPA is implementing Phase 5 of the Reregistration Program. In this final stage, the Agency is actively reviewing the studies submitted for each pesticide and determining whether or not the pesticide is eligible for reregistration—that is, whether the data base is substantially complete, and the pesticide does not cause unreasonable adverse effects to people or the environment when used in accordance with approved labeling. EPA is also reassessing tolerances for any related food uses, and considering whether the pesticide meets the new safety standard in FQPA.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on June 16, 1999 (64 FR 32225; no comments were received.

Burden Statement: The annual public reporting and recordkeeping burden for this collection of information is estimated to average 3,024 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Pesticide registrants seeking re-registration.

Estimated number of potential Responses: 30.

Frequency of response: Once, after the Record of Decision is issued.

Estimated total annual Respondent burden: 90,725 hours.

Estimated total annual Capital, O&M costs: 0.

Send comments on the Agency's need for this information, the accuracy of the provided burden estimates, and any suggested methods for minimizing respondent burden, including through the use of automated collection techniques to the following addresses. Please refer to EPA ICR No. 1504.04 and OMB Control No. 2070-0107 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: May 22, 2000.
Oscar Morales,
Director, Collection Strategies Division.

[FR Doc. 00-14184 Filed 6-5-00; 8:45 am]

BILLING CODE 6560-50-P